DEPARTMENT OF TRANSPORTATION

Federal Aviation Administration

Release of Airport Property: Melbourne International Airport, Melbourne, FL

AGENCY: Federal Aviation Administration (FAA), DOT.

ACTION: Notice and Request for Public Comment.

SUMMARY: The FAA hereby provides notice of intent to release certain airport properties totaling 22.15 acres at the Melbourne International Airport, Melbourne, Florida from the conditions, reservations, and restrictions as contained in a Quitclaim Deed agreement between the FAA and the City of Melbourne, dated August 6, 1947. The release of property will allow the Melbourne Airport Authority to dispose of the property for other than aeronautical purposes. The property is located on the north side of the airfield, along the west side of Neiman Avenue and south of Laurie Street in Brevard County, Florida. The parcel is currently designated as non-aeronautical use. The property will be released of its federal obligations to enhance the storm water management of the surrounding community, a benefit that cannot be quantified. The property will be swapped for another City-owned parcel. The 22.15-acre parcel to be acquired is located west of Apollo Boulevard and North of General Aviation Drive in Brevard County, Florida. This parcel is adjacent to airport property and is currently vacant. The fair market value of the Neiman Avenue/Laurie Street parcel has been determined by appraisal to be $53,000. The fair market value of the Apollo Boulevard/General Aviation Way parcel has been determined by appraisal to be $450,000.

Documents reflecting the Sponsor's request are available, by appointment only, for inspection at the Melbourne International Airport and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: Comments are due on or before December 14, 2011.

ADDRESSES: Documents are available for review at the Palm Beach International Airport, and the FAA Airports District Office, 5950 Hazeltine National Drive, Suite 400, Orlando, FL 32822. Written comments on the Sponsor's request must be delivered or mailed to: Rebecca R. Henry, Program Manager, Orlando Airports District Office, 5950 Hazeltine National Drive, Suite 400, Orlando, FL 32822-5024.

FOR FURTHER INFORMATION CONTACT: Rebecca R. Henry, Program Manager, Orlando Airports District Office, 5950 Hazeltine National Drive, Suite 400, Orlando, FL 32822-5024.

W. Dean Stringer,
Manager, Orlando Airports District Office, Southern Region.

Revision Date 11/22/00

[FR Doc. 2011-29270 Filed 11-10-11; 8:45 am]

BILLING CODE 4910-13-P